NUCLEAR REGULATORY COMMISSION

Final Regulatory Guide: Issuance, Availability

AGENCY: Nuclear Regulatory Commission.

ACTION: Final Regulatory Guide: Issuance, Availability.

FOR FURTHER INFORMATION CONTACT: William D. Reckley, U.S. Nuclear Regulatory Commission, Washington, DC 20555-0001, Telephone (301) 415-8668 or via e-mail to wdr@nrc.gov.

SUPPLEMENTARY INFORMATION:

I. Introduction

The U.S. Nuclear Regulatory Commission (NRC) is issuing a new guide in the agency's Regulatory Guide series. This series has been developed to describe and make available to the public such information as (1) methods that are acceptable to the NRC staff for implementing specific parts of the NRC's regulations, (2) techniques that the staff uses in evaluating specific problems or postulated accidents, and (3) data that the staff needs in its review of applications for permits and licenses.

The NRC is now issuing Regulatory Guide 1.206, “Combined License Applications for Nuclear Power Plants (LWR Edition),” which provides guidance for use in submitting combined license (COL) applications pursuant to the Commission regulations in Title 10, Part 52, of the Code of Federal Regulations (10 CFR), “Early Site Permits; Standard Design Certifications; and Combined Licenses for Nuclear Power Plants.” Specifically, 10 CFR part 52 governs the issuance of early site permits, standard design certifications, combined licenses, standard design approvals, and manufacturing licenses for nuclear power plants. A draft of the final rule was made available to the public electronically via the NRC rulemaking Web site at http://ruleforum.llnl.gov on May 21, 2007. Regulatory Guide 1.206 implements the requirements contained in the draft final rule. A final rule amending 10 CFR part 52 is expected to be published in the Federal Register later this year. Following issuance of the final rule, conforming changes will be made to the regulatory guide, as necessary. The regulatory positions in Section C of Regulatory Guide 1.206 are divided into the following parts:

(1) Part I addresses the information requirements specified in 10 CFR 52.79, “Contents of applications; technical information.” Part I provides a COL applicant with guidance regarding the information that the NRC needs to resolve all safety issues related to the proposed COL. This part is intended for use by the COL applicants who are not referencing certified designs or early site permits.

(2) Part II addresses the information requirements specified in 10 CFR 52.80, “Contents of applications; additional information.” The information requirements include the inspections, tests, analyses, and acceptance criteria; and the environmental report.

(3) Part III is intended for use by COL applicants who reference either a certified design or both a certified design and an early site permit.

(4) Part IV addresses a series of miscellaneous topics of interest to COL applicants, and includes, but is not limited to, a checklist for acceptance review of a COL application, and guidance and recommendations on COL application format.

II. Further Information

The NRC previously solicited public comment on this guide by publishing a Federal Register notice (71 FR 52826) concerning Draft Regulatory Guide DG-1145 on September 1, 2006. Following the closure of the public comment period on October 21, 2006, the NRC staff considered all stakeholder comments in preparing Regulatory Guide 1.206. The NRC staff's responses to stakeholder comments received for DG-1145 are documented in a report that can be found on NRC's Agencywide Documents Access and Management System (ADAMS) at Accession No. ML071490067.

The NRC staff encourages and welcomes comments and suggestions in connection with improvements to published regulatory guides, as well as items for inclusion in regulatory guides that are currently being developed. Comments may be submitted by any of the following methods.

1. Mail comments to: Rulemaking, Directives, and Editing Branch, Office of Administration, U.S. Nuclear Regulatory Commission, Washington, DC 20555-0001.

2. Hand-deliver comments to: Rulemaking, Directives, and Editing Branch, Office of Administration, U.S. Nuclear Regulatory Commission, 11555 Rockville Pike, Rockville, MD 20852, between 7:30 a.m. and 4:15 p.m. on Federal workdays.

3. Fax comments to: Rulemaking, Directives, and Editing Branch, Office of Administration, U.S. Nuclear Regulatory Commission at (301) 415-5144.

Requests for technical information about Regulatory Guide 1.206 may be directed to William D. Reckley at (301) 415-8668 or via e-mail to wdr@nrc.gov.

Regulatory guides are available for inspection or downloading through the NRC's public Web site in the Regulatory Guides document collection of the NRC's Electronic Reading Room at http://www.nrc.gov/reading-rm/doc-collections. Electronic copies of Regulatory Guide 1.206 are available in ADAMS at http://www.nrc.gov/reading-rm/adams.html, under Accession No. ML070720184.

Regulatory Guide 1.206 and other related publicly available documents can also be viewed electronically on computers in the NRC's Public Document Room (PDR), which is located at 11555 Rockville Pike, Rockville, Maryland. The PDR's reproduction contractor will make copies of documents for a fee. The PDR's mailing address is USNRC PDR, Washington, DC 20555-0001. The PDR can also be reached by telephone at (301) 415-4737 or (800) 397-4205, by fax at (301) 415-3548, and by e-mail to PDR@nrc.gov.

Please note that the NRC does not intend to distribute printed copies of Regulatory Guide 1.206, unless specifically requested on an individual basis with adequate justification. Such requests should be made (1) in writing to the U.S. Nuclear Regulatory Commission, Washington, DC 20555-0001, Attention: Reproduction and Distribution Services Section; (2) by e-mail to DISTRIBUTION@nrc.gov; or (3) by fax to (301) 415-2289. Telephone requests cannot be accommodated.

Regulatory Guides are not copyrighted, and Commission approval is not required to reproduce them (5 U.S.C. 552(a)).

Dated at Rockville, Maryland, this 20th day of June, 2007.
For the U.S. Nuclear Regulatory Commission.
Brian W. Sheron,
Director, Office of Nuclear Regulatory Research.

[FR Doc. E7-12346 Filed 6-25-07; 8:45 am]

BILLING CODE 7590-01-P